DEPARTMENT OF AGRICULTURE

Animal and Plant Health Inspection Service

7 CFR Part 301

[Docket No. 00-034-2]

Plum Pox

AGENCY: Animal and Plant Health Inspection Service, USDA.

ACTION: Affirmation of interim rule as final rule.

SUMMARY: We are adopting as a final rule, without change, an interim rule that established regulations to quarantine portions of Adams County, PA, due to the detection of plum pox and restrict the interstate movement of articles from the quarantined area that present a risk of transmitting plum pox. We took this action to prevent the spread of plum pox to noninfested areas of the United States.

EFFECTIVE DATE: The interim rule became effective on June 2, 2000.

FOR FURTHER INFORMATION CONTACT: Mr. Stephen Poe, Operations Officer, PPQ, APHIS, 4700 River Road Unit 134, Riverdale, MD 20737; (301) 734-8899.

SUPPLEMENTARY INFORMATION:

Background

In an interim rule effective and published in the Federal Register on June 2, 2000 (65 FR 35261-35265, Docket No. 00-034-1), we amended the “Domestic Quarantine Notices” in 7 CFR part 301 by adding a new subpart, “Plum Pox,” composed of new §§ 301.74 through 301.74-4 and referred to below as the regulations. These regulations quarantine portions of Adams County, PA, due to the detection of plum pox and restrict the interstate movement of stone fruit budwood, root stock, and other plant material from the quarantined area that present a risk of transmitting plum pox. We took this action to prevent the spread of plum pox to noninfested areas of the United States.

Comments on the interim rule were required to be received on or before August 1, 2000. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301_DOMESTIC QUARANTINE NOTICES

Accordingly, we are adopting as a final rule, without change, the interim rule that amended 7 CFR part 301 and that was published at 65 FR 35261-35265 on June 2, 2000.

Authority: Title IV, Pub. L. 106-224, 114 Stat. 438, 7 U.S.C. 7701-7772; 7 U.S.C. 166; 7 CFR 2.22, 2.80, and 371.3.

Done in Washington, DC, this 29th day of August 2000.
Bobby R. Acord,
Acting Administrator, Animal and Plant Health Inspection Service.

[FR Doc. 00-22635 Filed 9-1-00; 8:45 am]

BILLING CODE 3410-34-U